DEPARTMENT OF TRANSPORTATION

Federal Aviation Administration

[Summary Notice No. PE-2017-78]

Petition for Exemption; Summary of Petition Received

AGENCY: Federal Aviation Administration (FAA), DOT.

ACTION: Notice of petition for exemption received.

SUMMARY: This notice contains a summary of a petition seeking relief from specified requirements of Federal Aviation Regulations. The purpose of this notice is to improve the public's awareness of, and participation in, this aspect of the FAA's regulatory activities. Neither publication of this notice nor the inclusion or omission of information in the summary is intended to affect the legal status of the petition or its final disposition.

DATES: Comments on this petition must identify the petition docket number involved and must be received on or before October 16, 2017.

ADDRESSES: Send comments identified by docket number FAA-2017-0891 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Lynette Mitterer, AIR-673, Federal Aviation Administration, 1601 Lind Avenue SW., Renton, WA 98057-3356, email Lynette.Mitterer@faa.gov, phone (425) 227-1047; or Alphonso Pendergrass, ARM-200, Office of Rulemaking, Federal Aviation Administration, 800 Independence Avenue SW., Washington, DC 20591, email alphonso.pendergrass@faa.gov, phone (202) 267-4713.

This notice is published pursuant to 14 CFR 11.85.

Issued in Renton, Washington.
Victor Wicklund,
Manager, Transport Standards Branch.

Petition for Exemption

Docket No.: FAA-2017-0891.

Petitioner: Boeing.

Section of 14 CFR Affected: § 25.903(d)(1).

Description of Relief Sought: Boeing is requesting relief from the requirements of 14 CFR 25.903(d)(1), amendment 25-100 for a limited number of 767-2C airplanes. The regulation requires that hazards due to uncontained engine failures be minimized. There is a portion of the wiring for the engine thrust control system where the redundant channels are not sufficiently separated for ⅓-disc fragments within the uncontained engine failure hazard zone. The relief sought is limited to those 767-2C airplanes completed prior to the production incorporation of the design change that sufficiently separates engine thrust control wiring.

[FR Doc. 2017-21543 Filed 10-5-17; 8:45 am]

BILLING CODE 4910-13-P